DEPARTMENT OF COMMERCE

National Oceanic and Atmospheric Administration

[I.D. 031505E]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The meetings will be held April 4, 2005, through April 11, 2005. See SUPPLEMENTARY INFORMATION for specific dates and times.

ADDRESSES: The meetings will be held at the Anchorage Hilton Hotel, 500 West Third Avenue, Anchorage, AK.

Council address: North Pacific Fishery Management Council, 605 W. 4th Avenue, Suite 306, Anchorage, AK 99501-2252.

FOR FURTHER INFORMATION CONTACT: Council staff; telephone: (907) 271-2809.

SUPPLEMENTARY INFORMATION: The Council's Advisory Panel will begin at 8 a.m., Monday, April 4 and continue through Friday April 8, 2005. The Scientific and Statistical Committee will begin at 8 a.m. on Monday, April 4, 2005, and continue through Wednesday, April 6, 2005.

The Council will begin its plenary session at 8 a.m. on Wednesday, April 6 and continuing through Monday April 11. All meetings are open to the public except executive sessions. The Ecosystem Committee will meet Monday, April 4, from 1 p.m. to 5 p.m. The Enforcement Committee will meet Tuesday, April 5 from 1 p.m. to 5 p.m.

Council Plenary Session: The agenda for the Council's plenary session will include the following issues. The Council may take appropriate action on any of the issues identified.

1. Reports

a. Executive Director's Report

b. NMFS Management Report 9 include report on (1) Data Quality act requirements, (2) National Environmental Protection Act (NEPA) requirements for annual specification)

c. Coast Guard Report

d. Alaska Department of Fish & Game Report (Review Board of Fisheries March actions, initiating action as necessary)

e. U.S. Fish & Wildlife Service Report

f. Protected Species Report (T)

2. Community Development Quota (CDQ) Program: NMFS Report on CDQ allocation process. State of Alaska's Consultation on CDQ allocation recommendations.

3. Gulf of Alaska Groundfish (GOA) Rationalization: Receive Community Committee report and other available information and refine alternatives as appropriate.

4. GOA Rockfish Demonstration Project: Preliminary Review of EA/RIR/IRFA, action as necessary.

5. Bering Sea Aleutian Islands (BS/AI) Pacific Cod Allocations: Review/refine alternatives and options.

6. Bering Sea and Aleutian Island (BSAI) Salmon Bycatch: Review reports from pollock cooperatives. Finalize alternatives for analysis.

7. Bairdi Crab Split: Develop problem statement/refine Alternatives.

8. Groundfish Management: Receive Non-Target Species Committee report and determine next steps. GOA Other species calculation: Initial Review. Exempted Fishing Permit (EFP) for Internal Weighted Groundline: Review and action as necessary. EFP for salmon excluder and action as necessary.

9. Scallop: Review Scallop Stock Assessment Fishery Evaluation. Final action on Scallop Fishery Management Plan.

10. Staff Tasking: Review tasking and committees and initiate action as appropriate. Programmatic Supplemental Environmental Impact Statement Priorities, review objectives and develop workplan.

11. Other Business.

Scientific and Statistical Committee (SSC): The SSC agenda will include the following issues:

1. GOA Rockfish

2. BS/AI Pacific cod allocations

3. BS/AI Salmon Bycatch

4. Groundfish Management

5. Scallop

Advisory Panel: The Advisory Panel will address the same agenda issues as the Council.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: March 16, 2005.
Emily Menashes,
Acting Director, Office of Sustainable Fisheries, National Marine Fisheries Service.

[FR Doc. E5-1214 Filed 3-18-05; 8:45 am]

BILLING CODE 3510-22-S